EXPORT-IMPORT BANK OF THE U.S.

[Public Notice 2012-0082]

Agency Information Collection Activities: Comment Request

AGENCY: Export-Import Bank of the U.S.

ACTION: Submission for OMB Review and Comments Request.

Form Title: EIB 84-01 Joint Application for Export Working Capital Guarantee.

SUMMARY: The Export-Import Bank of the United States (Ex-Im Bank), as a part of its continuing effort to reduce paperwork and respondent burden, invites the general public and other Federal Agencies to comment on the proposed information collection, as required by the Paperwork Reduction Act of 1995. Our customers will be able to submit this form on paper or electronically.

The purpose of this form is a joint application form for working capital loan guarantees provided by Ex-Im Bank and the Small Business Administration. This collection of information is necessary under Section 635(a)(1) to determine eligibility of applicant for Ex-Im Bank assistance or participation. The Small Business Administration is the U.S. Government Agency (created by the Small Business Act, as amended) that aids and assists small businesses to increase their ability to compete in international markets by enhancing their ability to export. This collection of information is necessary under Section 7(a)(14) of the Small Business Act (15 U.S.C. 636(a)(14) to determine eligibility of applicant for SBA assistance or participation.

The application provides Ex-Im Bank and Small Business Administration staff with the information necessary to determine if the application and transaction are eligible for Ex-Im Bank and SBA assistance.

This application can be viewed at www.exim.gov/pub/pending/EIB84-01.PDF.

DATES: Comments should be received on or before April 27, 2012 to be assured of consideration.

ADDRESSES: Comments may be submitted through www.Regulations.Gov or mailed to Smaro Karakatsanis, Export Import Bank of the United States, 811 Vermont Ave. NW., Washington, DC 20571.

SUPPLEMENTARY INFORMATION: Titles and Form Number: EIB 84-01 Joint Application for Export Working Capital Guarantee.

OMB Number: 3048-0003.

Type of Review: Regular.

Need and Use: This information will be used to determine if the application and transaction are eligible for Ex-Im Bank and SBA assistance.

Affected Public: This form affects entities involved in the export of U.S. goods and services.

| Ex-Im Bank | SBA
Estimated respondents per year | 606 | 177
Frequency of Responses | once per application for both programs
Estimated hours per response | 2.5 hours | 2.5 hours
Estimated annual burden hours | 1,515 | 442.5 (Total = 1,957.5)

The annual cost to respondents would therefore be $68,512.

| Ex-Im Bank | SBA
Reviewing time in hours | 2 | 2
Responses per year | 606 | 177
Review time per year | 1,212 | 354
Average wages per hour | $30.25 | $35.00
Average cost per year | $36,333 | $12,390
Benefits and Overhead | 28% | 100%
Total Government Cost | $46,506 | $24,780

The annual cost to the Government would be $71,286.

Sharon A. Whitt,
Agency Clearance Officer.

[FR Doc. 2012-4456 Filed 2-24-12; 8:45 am]

BILLING CODE 6690-01-P